DEPARTMENT OF STATE

[Public Notice 10747]

Office of the Secretary; Exercise of Authority Under the Immigration and Nationality Act

AGENCY: Office of the Secretary, DOS.

ACTION: Notice of determination.

Authority: 8 U.S.C. 1182(d)(3)(B)(i).

Following consultations with the Secretary of Homeland Security and the Attorney General, I hereby determine, as a matter of discretion in accordance with the authority granted to me by section 212(d)(3)(B)(i) of the Immigration and Nationality Act (INA), 8 U.S.C. 1182(d)(3)(B)(i), as amended, and in light of the foreign policy and national security interests deemed relevant in these consultations, that section 212(a)(3)(B)(vi)(III) of the INA, 8 U.S.C. 1182(a)(3)(B)(vi)(III), shall not apply to any business, organization, or group, whether public or private, solely based on its provision of material support to any foreign government sub-entity that has been designated as a foreign terrorist organization pursuant to the authority of the Secretary of State under section 219 of the INA, or its provision of material support to any foreign government sub-entity that meets the definition set out in section 212(a)(3)(B)(vi)(III) of the INA; except that this exercise of authority shall not apply to any group designated under section 219 of the INA or any group prohibited from benefiting from an exercise of authority under section 212(d)(3)(B)(i) of the INA for having engaged in terrorist activity against the United States or another democratic country, or having purposefully engaged in a pattern or practice of terrorist activity that is directed at civilians. This waiver applies both retroactively and prospectively.

This determination will be applied by appropriate officials of the Department of Homeland Security and U.S. consular officers, as applicable.

This exercise of authority may be revoked in whole or in part as a matter of discretion and without notice at any time, with respect to any and all groups subject to it.

This exercise of authority shall not be construed to prejudice, in any way, the ability of the U.S. government to commence subsequent criminal or civil proceedings in accordance with U.S. law involving any group potentially covered by this exercise of authority or any beneficiary of this exercise of authority (or any other person). This exercise of authority creates no substantive or procedural right or benefit that is legally enforceable by any party against the United States or its agencies or officers or any other person.

In accordance with section 212(d)(3)(B)(ii) of the INA, 8 U.S.C. 1182(d)(3)(B)(ii), a report on this exercise of authority shall be provided within one week by the U.S. Department of State to the specified congressional committees.

This determination is based on an assessment related to the national security and foreign policy interests of the United States as they apply to the groups generally described herein and shall not have any application with respect to other groups or to other provisions of U.S. law.

Dated: April 15, 2019.
Michael R. Pompeo,
Secretary of State.

[FR Doc. 2019-08255 Filed 4-23-19; 8:45 am]

BILLING CODE 4710-AD-P